DEPARTMENT OF ENERGY

Federal Energy Regulatory Commission

[Project No. 6757-008]

Stuwe and Davenport Partnership, Stuwe and Davenport Partnership, LLC; Notice of Transfer of Exemption

1. By letter filed April 30, 2015, Stuwe and Davenport Partnership informed the Commission that the exemption from licensing for the Dog River Project,¹ FERC No. 6757 ² has been transferred to Stuwe Davenport Partnership, LLC. The project is located on the Dog River in Washington County, Vermont. The transfer of an exemption does not require Commission approval.

¹ The project has been referred to as the “Northfield Hydroelectric Project” and the “Nantanna Mill Dam Project.” The correct name for FERC No. 6757 is the “Dog River Project.”

² 29 FERC ¶ 62,209, Order Granting Exemption From Licensing of a Small Hydroelectric Project 5 Megawatts or Less (1984).

2. Stuwe and Davenport Partnership, LLC is now the exemptee of the Dog River Project, FERC No. 6757. All correspondence should be forwarded to: Mark Boumansour, President, Stuwe and Davenport Partnership, LLC, 1401 Walnut Street, Suite 220, Boulder, CO 80302.

Dated: June 2, 2015.
Kimberly D. Bose,
Secretary.

[FR Doc. 2015-13901 Filed 6-5-15; 8:45 am]

BILLING CODE 6717-01-P